DEPARTMENT OF HEALTH AND HUMAN SERVICES

Food and Drug Administration

[FDA 225-04-4007]

Memorandum of Understanding between the Food and Drug Administration, Forensic Chemistry Center and the Federal Bureau of Investigation

AGENCY: Food and Drug Administration, HHS.

ACTION: Notice.

SUMMARY: The Food and Drug Administration (FDA) is providing notice of a memorandum of understanding (MOU) between the Food and Drug Administration and the Federal Bureau of Investigation (FBI). The purpose of this MOU is to establish the general policies and procedures that will govern administrative, logistical, and operational support to FBI missions including cost reimbursable activities.

DATES: The agreement became effective December 22, 2004.

FOR FURTHER INFORMATION CONTACT:

For the FDA: Fred Fricke, Food and Drug Administration, Forensic Chemistry Center, 6751 Steger Dr., Cincinnati, OH 45237, 513-679-2700.

For the FBI: David L. Wilson, Federal Bureau of Investigation Laboratory, Chemical Biological Sciences Unit, Quantico, VA 22135, 703-632-7766.

SUPPLEMENTARY INFORMATION: In accordance with 21 CFR 20.108(c), which states that all written agreements and MOUs between FDA and others shall be published in the Federal Register, the agency is publishing notice of this MOU.

Dated: September 20, 2005.
Jeffrey Shuren,
Assistant Commissioner for Policy.

BILLING CODE 4160-01-S

[FR Doc. 05-19339 Filed 9-27-05; 8:45 am]

BILLING CODE 4160-01-C